DEPARTMENT OF ENERGY

Federal Energy Regulatory Commission

[Docket No. EL02-83-000]

PacifiCorp, Complainant, v. El Paso Merchant Energy, L.P., Respondent; Notice of Complaint

May 3, 2002.

Take notice that on May 2, 2002, PacifiCorp filed a complaint against El Paso Merchant Energy, L.P. regarding the rates in certain 90-day contracts which call for delivery during the summer of 2002. PacifiCorp requests that the Commission set a refund effective date of July 1, 2002. Copies of the complaint were served on El Paso Merchant Energy, L.P. and relevant state regulatory commissions.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 22, 2002. Protests will be considered by the Commission in determining the appropriate action to be taken, but will not serve to make protestants parties to the proceeding. Any person wishing to become a party must file a motion to intervene. Answers to the complaint shall also be due on or before May 22, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Linwood A. Watson, Jr.,
Deputy Secretary.

[FR Doc. 02-11589 Filed 5-8-02; 8:45 am]

BILLING CODE 6717-01-P